FEDERAL COMMUNICATIONS COMMISSION

Deletion of Agenda Item From June 28, 2007, Open Meeting in Portland, Maine

June 28, 2007.

The following item has been deleted from the Agenda scheduled for consideration at the June 28, 2007, Open Meeting in Portland, Maine and previously listed in the Commission's Notice of June 21, 2007.

Item no. | Bureau | Subject
1 | Media | Title: Implementation of Section 304 of the Telecommunications Act of 1996; Commercial Availability of Navigation Devices; and Compatibility Between Cable Systems and Consumer Electronics Equipment. (CS Docket No. 97-80, PP Docket No. 00-67).
|  | Summary: The Commission will consider a Third Further Notice of Proposed Rulemaking concerning proposed standards to ensure bidirectional compatibility of multichannel video programming distribution systems and consumer electronics equipment.

Federal Communications Commission
Marlene H. Dortch,
Secretary.

[FR Doc. 07-3234 Filed 6-28-07; 2:56 pm]

BILLING CODE 6712-01-P